DEPARTMENT OF ENERGY

Notice of Closed Meetings To Implement Voluntary Agreements and Related Plans of Action Under the Defense Production Act

AGENCY: Office of Nuclear Energy, Department of Energy.

ACTION: Notice of closed meetings.

SUMMARY: The notice announces a series of closed meetings held pursuant to the Defense Production Act to discuss the implementation of its Voluntary Agreement and potential accompanying Plans of Action with entities involved in the nuclear fuel industry.

DATES: See SUPPLEMENTARY INFORMATION section for further details.

ADDRESSES: The meetings were held virtually (Teams).

FOR FURTHER INFORMATION CONTACT: Ms. Sarah McPhee-Charrez, Chief of Staff, Nuclear Fuel Cycle, Office of Nuclear Energy, Department of Energy, 1000 Independence Avenue SW, Washington, DC 20585, Telephone: (202) 587-1092. Email: sarah.mcphee@nuclear.energy.gov.

SUPPLEMENTARY INFORMATION: In accordance with section 708 of the Defense Production Act (“DPA”) (50 U.S.C. 4558) and consistent with the regulations set out at 10 CFR part 821, the Department of Energy (“DOE”) hereby gives notice that a series of closed meetings were held to discuss the implementation of a Voluntary Agreement and any subsequent Plans of Action regarding each of the listed topics. DOE determined that these meetings were likely to disclose information treated as trade secrets and commercial or financial information obtained from a person and privileged or confidential. As a result, DOE determined that the matters discussed in these meetings fell within the scope of 5 U.S.C. 552b(c), thereby necessitating their closure to the public.

Meeting 1: Reactors Meeting

January 13, 2026, January 20, 2026, and January 27, 2026.

11:00 a.m.-11:45 a.m. Virtual (Teams)

Meeting 2: Recycling and Reprocessing Meeting

January 13, 2026, January 20, 2026, and January 27, 2026.

11:30 a.m.-12:00 p.m. Virtual (Teams)

Meeting 3: Mining and Milling Meeting

January 13, 2026, January 20, 2026, and January 27, 2026.

1:00 p.m.-1:30 p.m. Virtual (Teams)

Meeting 4: Utilities Meeting

January 15, 2026, January 22, 2026, and January 29, 2026.

10:30 a.m.-11:00 a.m. Virtual (Teams)

Meeting 5: Fabrication and Deconversion Meeting

January 15, 2026, January 22, 2026, and January 29, 2026.

2:00 p.m.-3:00 p.m. Virtual (Teams)

Meeting 6: Enrichment Meeting

January 22, 2026, and January 29, 2026.

10:00 a.m.-10:45 a.m. Virtual (Teams)

Meeting 7: Conversion Meeting

January 22, 2026, and January 29, 2026.

11:00 a.m.-11:45 a.m. Virtual (Teams)

Signing Authority: This document of the Department of Energy was signed on February 19, 2026, by Assistant Secretary for Nuclear Energy Theodore J. Garrish- Assistant Secretary, Nuclear Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, February 20, 2026.
Treena V. Garrett,
Federal Register Liaison Officer, U.S. Department of Energy.

[FR Doc. 2026-03687 Filed 2-23-26; 8:45 am]

BILLING CODE 6450-01-P